DEPARTMENT OF VETERANS AFFAIRS

Advisory Committee on Veterans Health Administration Resident Education; Notice of Meeting

The Department of Veterans Affairs gives notice under Public Law 92-463 (Federal Advisory Committee Act) that the Advisory Committee on Veterans Health Administration (VHA) Resident Education will hold a teleconference on April 29, 2005, from 10 a.m. until 12 p.m. The conference call will be held in Room 530 at VA Central Office, 810 Vermont Avenue, NW., Washington, DC. The conference call is open to the public at this location.

The Committee has been established to provide broad assessment of physician resident positions in relationship to future veteran health care needs. The Committee will affirm the philosophical principles governing VHA's internal Graduate Medical Education Advisory Committee, provide external perspective and national guidance on VHA resident education, and make recommendations regarding further actions to the Secretary.

The agenda topics for this meeting will include a review of Committee activities and updates on the VHA Resident Education Program. The discussions will primarily center around evaluation of how VHA may best go forward with the goal of balancing the educational needs of resident physicians while providing excellent health care to veterans.

Any member of the public wishing to attend should contact Mr. Andrew Fleshman at the Department of Veterans Affairs, Office of Academic Affiliations (144), 810 Vermont Avenue, NW., Washington DC 20420, by phone at (202) 273-8369, by fax at (202) 273-9031 or by e-mail at vhacooaa@va.gov. Statements, if in written form, may be filed before the meeting or within 10 days after the meeting. One half hour of the Committee's session beginning at 11:30 a.m. will be set aside to receive oral public statements.

Dated: March 4, 2005.
By direction of the Secretary.
E. Philip Riggin,
Committee Management Officer.

[FR Doc. 05-4897 Filed 3-11-05; 8:45 am]

BILLING CODE 8320-01-M